DEPARTMENT OF HEALTH AND HUMAN SERVICES

Establishment of the Health Information Technology Advisory Committee

AGENCY: Office of the National Coordinator for Health Information Technology (ONC), HHS.

ACTION: Notice of establishment meeting dates of the Health Information Technology Advisory Committee.

SUMMARY: The Health Information Technology Advisory Committee (HITAC) is established in accordance with section 4003(e) of the 21st Century Cures Act and the Federal Advisory Committee Act. The Health information Technology Advisory Committee, among other things, shall identify priorities for standards adoption and make recommendations to the National Coordinator of Health Information Technology (National Coordinator) on a policy framework to advance an interoperable health information technology infrastructure. The HITAC will hold public meetings throughout 2018 with its first public meeting scheduled for January 18, 2018, from approximately 9:30 a.m. to 2:30 p.m./Eastern Time at the Omni Shoreham Hotel, 2500 Calvert Street NW, Washington, DC 20008.

FOR FURTHER INFORMATION CONTACT: Lauren Richie, Designated Federal Officer, at Lauren.Richie@hhs.gov.

SUPPLEMENTARY INFORMATION: Section 4003(e) of the 21st Century Cures Act (Pub. L. 114-255) establishes the Health Information Technology Advisory Committee (referred to as the “HITAC”). The HITAC will be governed by the provisions of the Federal Advisory Committee Act (FACA) (Pub. L. 92-463), as amended (5 U.S.C. App .), which sets forth standards for the formation and use of federal advisory committees.

Composition

The HITAC is comprised of at least 25 members, of which:

• No fewer than 2 members are advocates for patients or consumers of health information technology;

• 3 members are appointed by the HHS Secretary

○ 1 of whom shall be appointed to represent the Department of Health and Human Services and

○ 1 of whom shall be a public health official;

• 2 members are appointed by the majority leader of the Senate;

• 2 members are appointed by the minority leader of the Senate;

• 2 members are appointed by the Speaker of the House of Representatives;

• 2 members are appointed by the minority leader of the House of Representatives; and

• Other members are appointed by the Comptroller General of the United States.

Introductory members will serve for one-, two-, or three-year terms. All members may be reappointed for subsequent three-year terms. Each member is limited to two three-year terms, not to exceed six years of service. After establishment, members shall be appointed for a three year term. Members serve without pay, but will be provided per-diem and travel costs for committee services.

Recommendations

The HITAC shall recommend to the National Coordinator a policy framework for adoption by the Secretary consistent with the strategic plan under section 3001(c)(3) for advancing following target areas: (1) Achieving a health information technology infrastructure that allows for the electronic access, exchange, and use of health information; (2) the promotion and protection of privacy and security of health information in health information technology; (3) the facilitation of secure access by an individual to such individual's protected health information; and (4) any other target area that the HITAC identifies as an appropriate target area to be considered. Such policy framework shall seek to prioritize achieving advancements in these target areas and may incorporate policy recommendations made by the HIT Policy Committee, as in existence before the date of the enactment of the 21st Century Cures Act.

Public Meetings

The first public meeting of the HITAC will be held on January 18, 2018, from approximately 9:30 a.m. to 2:30 p.m./Eastern Time at the Omni Shoreham Hotel, 2500 Calvert Street NW, Washington, DC 20008. Subsequently, the remainder of the meetings to be held in 2018 is scheduled as follows:

• February 21, 2018 from approximately 9:30 a.m.. to 2:30 p.m./Eastern Time (virtual meeting)

• March 21, 2018 from approximately 9:30 a.m. to 2:30 p.m./Eastern Time (virtual meeting)

• April 18, 2018 from approximately 9:30 a.m. to 2:30 p.m./Eastern Time at the Omni Shoreham Hotel, 2500 Calvert Street NW, Washington, DC 20008

• May 16, 2018 from approximately 9:30 a .m. to 2:30 p.m./Eastern Time (virtual meeting)

• June 20, 2018 from approximately 9:30 a.m. to 2:30 p.m./Eastern Time (virtual meeting)

• September 5, 2018 from approximately 9:30 a.m. to 2:30 p.m./Eastern Time at the Omni Shoreham Hotel, 2500 Calvert Street NW, Washington, DC 20008

• October 17, 2018 from approximately 9:30 a.m. to 2:30 p.m./Eastern Time (virtual meeting)

• November 14, 2018 from approximately 9:30 a.m. to 2:30 p.m./Eastern Time (virtual meeting)

All meetings are open to the public. For web conference instructions and the most up-to-date information, please visit the HITAC calendar on the ONC website, http://www.healthit.gov/FACAS/calendar.

Contact Person for Meetings: Lauren Richie, lauren.richie@hhs.gov. A notice in the Federal Register about last minute modifications that impact a previously announced advisory committee meeting cannot always be published quickly enough to provide timely notice. Please email Lauren Richie for the most current information about meetings.

Agenda: The committee will take care of administrative matters and hear reports from ONC. ONC intends to make background material available to the public no later than 24 hours prior to the meeting start time. If ONC is unable to post the background material on its website prior to the meeting, it will be made publicly available at the location of the advisory committee meeting, and the background material will be posted on ONC's website after the meeting, at http://www.healthit.gov/hitac.

Procedure: Interested persons may present data, information, or views, orally or in writing, on issues pending before the Committee. Written submissions may be made to the contact person prior to the meeting date. An oral public comment period will be scheduled at each meeting. Time allotted for each presentation will be limited to three minutes. If the number of speakers requesting to comment is greater than can be reasonably accommodated during the scheduled public comment period, ONC will take written comments after the meeting.

Persons attending ONC's HITAC meetings are advised that the agency is not responsible for providing wireless access or access to electrical outlets.

ONC welcomes the attendance of the public at its HITAC meetings. Seating is limited at the location, and ONC will make every effort to accommodate persons with physical disabilities or special needs. If you require special accommodations due to a disability, please contact Lauren Richie at least seven (7) days in advance of the meeting.

Notice of this meeting is given under the Federal Advisory Committee Act (Pub. L. No. 92-463, 5 U.S.C., App. 2).

Dated: December 13, 2017.
Lauren Richie,
Office of Policy, Office of the National Coordinator for Health Information Technology.

[FR Doc. 2017-27412 Filed 12-21-17; 8:45 am]

BILLING CODE 4150-45-P